ENVIRONMENTAL PROTECTION AGENCY

[FRL-9312-2]

The Effects of Mountaintop Mines and Valley Fills on Aquatic Ecosystems of the Central Appalachian Coalfield and A Field-Based Aquatic Life Benchmark for Conductivity in Central Appalachian Streams; Release of Final Reports

AGENCY: Environmental Protection Agency (EPA).

ACTION: Notice of availability.

SUMMARY: EPA publically released on April 13, 2011, two final scientific reports assessing the environmental and water quality effects of mountaintop coal mining on Appalachian streams. Both reports, prepared by EPA scientists in the Agency's Office of Research and Development, were strongly endorsed by EPA's Science Advisory Board following an extensive independent peer review. The reports provide valuable scientific information for use by Federal and state agencies responsible for the review of surface coal mining operations under the Clean Water Act. The two reports, entitled The Effects of Mountaintop Mines and Valley Fills on Aquatic Ecosystems of the Central Appalachian Coalfields (EPA/600/R-09/138F) and A Field-based Aquatic Life Benchmark for Conductivity in Central Appalachian Streams (EPA/600/R-10/023F) are available via the Internet at http://www.epa.gov/ncea.

DATES: These two reports were posted publically on April 13, 2011.

ADDRESSES: Both reports are available primarily via the Internet on the National Center for Environmental Assessment's home page under the Recent Additions and Publications menus at http://www.epa.gov/ncea. A limited number of paper copies are available from the Information Management Team, NCEA; telephone: 703-347-8561; facsimile: 703-347-8691. If you are requesting a paper copy, please provide your name, your mailing address, and the document title.

FOR FURTHER INFORMATION CONTACT: For additional information, contact the National Center for Environmental Assessment; Michael Slimak; telephone: 703-347-8524; or e-mail: slimak.michael@epa.gov.

SUPPLEMENTARY INFORMATION:

I. Key Conclusions

The Effects of Mountaintop Mines and Valley Fills on Aquatic Ecosystems of the Central Appalachian Coalfields

• Springs, and ephemeral, intermittent, and small perennial headwater streams are permanently lost with the removal of the mountain and from burial under mining waste;

• Concentrations of major chemical ions (a measure of salinity) are persistently elevated downstream of mining operations;

• Degraded water quality reaches levels that are acutely lethal to standard laboratory test organisms;

• Selenium concentrations are elevated, reaching concentrations that have caused toxic effects in fish and birds; and

• Aquatic communities downstream of mining operations are consistently degraded.

A Field-Based Aquatic Life Benchmark for Conductivity in Central Appalachian Streams

• Consistent with longstanding EPA methods and using site specific stream data in West Virginia and Kentucky, EPA determined that conductivity (dissolved salts) levels below 300 µS/cm are generally associated with healthy aquatic communities; and

• The Report demonstrates that elevated conductivity (a measure of salinity) is the factor most directly responsible for the loss of stream life in Appalachian streams.

Comments were solicited on the drafts of both reports beginning in April 2010. Those comments received were provided to an expert peer review panel of the Science Advisory Board (SAB). The SAB panel held a public meeting to review the draft reports from July 20-22, 2010. The SAB's peer review reports were transmitted to the EPA Administrator on March 25, 2011, and are available at: http://yosemite.epa.gov/sab/sabproduct.nsf/WebReportsLastMonthBOARD/ACD3A1AF5C7138E785257625006C891E?OpenDocument&TableRow=2.3#2, for the MTM-VF Effects Assessment; and http://yosemite.epa.gov/sab/sabproduct.nsf/WebReportsLastMonthBOARD/984D6747508D92AD852576B700630F32?OpenDocument&TableRow=2.3, for the Conductivity Report.

Dated: May 19, 2011.
Darrell A. Winner,
Acting Director, National Center for Environmental Assessment.

[FR Doc. 2011-13270 Filed 5-26-11; 8:45 am]

BILLING CODE 6560-50-P